Title 3—

The President

Executive Order 13484 of January 9, 2009

Amending the Order of Succession Within the Department of Agriculture

By the authority vested in me as President by the Constitution and the laws of the United States of America, including the Federal Vacancies Reform Act of 1998, 5 U.S.C. 3345 et seq., it is hereby ordered that Executive Order 13241 of December 18, 2001, as amended, is further amended as follows:

Section 1. Section 2 is amended to read as follows:

“Sec. 2. Order of Succession.

“(a) General Counsel of the Department of Agriculture;

“(b) Chief Financial Officer of the Department of Agriculture;

“(c) Assistant Secretary of Agriculture for Administration;

“(d) Under Secretary of Agriculture for Farm and Foreign Agricultural Services;

“(e) Under Secretary of Agriculture for Natural Resources and Environment;

“(f) Under Secretary of Agriculture for Marketing and Regulatory Programs;

“(g) Under Secretary of Agriculture for Rural Development;

“(h) Under Secretary of Agriculture for Food, Nutrition, and Consumer Services;

“(i) Under Secretary of Agriculture for Food Safety;

“(j) Under Secretary of Agriculture for Research, Education, and Economics;

“(k) Assistant Secretary of Agriculture for Congressional Relations;

“(l) Assistant Secretary of Agriculture for Civil Rights;

“(m) Director, Kansas City Commodity Office, Farm Service Agency (consistent with the time of service and rate of pay requirements of section 3345(a)(3) of title 5, United States Code); and

“(n) State Executive Directors of the Farm Service Agency for the States of Missouri, Kansas, Iowa, and Nebraska, in order of seniority fixed by length of unbroken service as State Executive Director of that State (consistent with the time of service and rate of pay requirements of section 3345(a)(3) of title 5, United States Code).”.

Sec. 2. Section 3(a) is amended by striking “2(a)-(j)” and inserting “2(a)-(n)”, and a new section 3(c) is added to read as follows:

“(c) No individual listed in section 2 shall act as the Secretary unless that individual is otherwise eligible to so serve under the Federal Vacancies Reform Act of 1998.”

Sec. 3. This order is intended to improve the internal management of the executive branch and is not intended to, and does not, create any right or benefit, substantive or procedural, enforceable at law or in equity, by any party against the United States, its agencies, instrumentalities, or entities, its officers, employees, or agents, or any other person.

THE WHITE HOUSE,

January 9, 2009.

[FR Doc. E9-811

Filed 1-13-09; 8:45 am]

Billing code 3195-W9-P